DEPARTMENT OF ENERGY

Federal Energy Regulatory Commission

[Project No. 184-060]

El Dorado Irrigation District; Notice of Availability of Draft Environmental Assessment

March 24, 2000.

A draft environmental assessment (DEA) is available for public review. The DEA was prepared in support of Commission action on a proposed license amendment for the El Dorado Project. The proposed amendment would allow the reconstruction of the project's diversion dam and construction of a two-mile-long tunnel to bypass a section of the project's canal that is damaged and/or situated on unstable slopes. The DEA finds that approval of the proposed amendment, with staff's recommended mitigation measures, would not constitute a major federal action significantly affecting the quality of the human environment. The El Dorado Project is located on the South Fork of the American River, in El Dorado, Amador, and Alpine counties, California.

The DEA was written by staff in the Office of Energy Projects, Federal Energy Regulatory Commission. Copies of the DEA can be viewed at the Commission's Reference and Information Center, Room 2A, 888 First Street, NE., Washington, DC 20426, or by calling 202-208-1371. The document can be viewed on the web at http://rimsweb1.ferc.fed.us/rims (call 202-208-2222 for assistance). Copies can also be obtained by calling the project manager listed below.

Please submit any comments (an original and eight copies) on the DEA within 45 days from the date of this notice. Any comments, conclusions, or recommendations that draw upon studies, reports or other working papers of substance should be supported by appropriate documentation.

Comments should be addressed to David P. Boergers, Secretary, Federal Energy Regulatory Commission, 888 First Street, NE., Washington, DC 20426. Please affix Project No. 184-060 to all comments. For further information, please contact the project manager, John Mudre, at (202) 219-1208.

Federal, state, and local agencies are invited to file comments on the DEA. If an agency does not file comments within the time specified for filing comments, it will be presumed to have no comments.

David P. Boergers,
Secretary.

[FR Doc. 00-7792 Filed 3-29-00; 8:45 am]

BILLING CODE 6717-01-M